DEPARTMENT OF DEFENSE

GENERAL SERVICES ADMINISTRATION

NATIONAL AERONAUTICS AND SPACE ADMINISTRATION

48 CFR Chapter 1

Federal Acquisition Circular 2005-02; Introduction

AGENCIES: Department of Defense (DoD), General Services Administration (GSA), and National Aeronautics and Space Administration (NASA).

ACTION: Summary presentation of final rule.

SUMMARY: This document summarizes the Federal Acquisition Regulation (FAR) rule agreed to by the Civilian Agency Acquisition Council in this Federal Acquisition Circular (FAC) 2005-02. A companion document, the Small Entity Compliance Guide (SECG), follows this FAC. The FAC, including the SECG, is available via the Internet at http://www.acqnet.gov/far.

DATES: For effective date, see separate document which follows.

FOR FURTHER INFORMATION CONTACT: The FAR Secretariat, at (202) 501-4755, for information pertaining to status or publication schedules. For clarification of content, contact the analyst whose name appears in the table below in relation to the FAR case. Please cite FAC 2005-02, FAR case 2004-002. Interested parties may also visit our Web site at http://www.acqnet.gov/far.

Item | Subject | FAR case | Analyst
I | Procurement Program for Service-Disabled Veteran-Owned Small Business Concerns | 2004-002 | Cundiff.

SUPPLEMENTARY INFORMATION: A summary of the FAR rule follows. For the actual revisions and/or amendments to this FAR case, refer to the specific item number and subject set forth in the document following this item summary.

FAC 2005-02 amends the FAR as specified below:

Procurement Program for Service-Disabled Veteran-Owned Small Business Concerns (FAR Case 2004-002)

This final rule provides for set-aside and sole source procurement authority for service-disabled veteran-owned small business (SDVOSB) concerns. It amends the Federal Acquisition Regulation (FAR) interim rule that was published in the Federal Register at 69 FR 25274, May 5, 2004, to implement Section 308 of the Veterans Benefits Act of 2003, Procurement Program for Small Business Concerns Owned and Controlled by Service-Disabled Veterans (Pub. L. 108-183). The interim rule provided that contracting officers may: (1) Award contracts on the basis of competition restricted to service-disabled veteran-owned small businesses (SDVOSB) if there is a reasonable expectation that two or more SDVOSB concerns will submit offers and that the award can be made at a fair market price, or (2) award a sole source contract to a responsible SDVOSB concern when there is not a reasonable expectation that two or more SDVOSB concerns would offer, the anticipated contract price (including options) will not exceed $5 million (for manufacturing) or $3 million otherwise, and the contract award can be made at a fair and reasonable price. This final rule is published in conjunction with two rules published by the Small Business Administration (SBA).

Dated: March 16, 2005.
Rodney P. Lantier,
Director, Contract Policy Division.

Federal Acquisition Circular

Federal Acquisition Circular (FAC) 2005-02 is issued under the authority of the Secretary of Defense, the Administrator of General Services, and the Administrator for the National Aeronautics and Space Administration.

Unless otherwise specified, all Federal Acquisition Regulation (FAR) and other directive material contained in FAC 2005-02 is effective March 23, 2005.

Dated: March 16, 2005.
Deidre A. Lee,
Director, Defense Procurement and Acquisition Policy.
Dated: March 16, 2005.
Patricia A. Brooks,
Acting Senior Procurement Executive, Office of the Chief Acquisition Officer, General Services Administration.
Dated: March 15, 2005.
Tom Luedtke,
Deputy Chief Acquisition Officer, National Aeronautics and Space Administration.

[FR Doc. 05-5655 Filed 3-22-05; 8:45 am]

BILLING CODE 6820-EP-M